DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before January 31, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC or at http://regulations.gov.

This notice of receipt of applications for special permit is published in accordance with part 107 of the Federal hazardous materials transportation law (49 U.S.C. 5117(b); 49 CFR 1.53(b)).

Issued in Washington, DC, on January 8, 2025.
Donald P. Burger,
Chief, General Approvals and Permits Branch.

Special Permits Data
Application No. | Applicant | Regulation(s) affected | Nature of the special permits thereof
12098-M | Missions Systems Orchard Park Inc | 173.301(f), 173.302a(a)(1) | To modify the special permit to reflect current testing and inspection criteria, replacing references to cancelled government and industry standards. (modes 1, 2, 4).
14287-M | Troxler Electronic Laboratories, Inc | 173.469, 173.476(a) | To modify the special permit to authorize additional gauges. (mode 1).
14951-M | Hexagon Lincoln, LLC | 173.301(f), 173.302(a) | To modify the special permit to no longer reference “working pressure” in paragraph 2.a. (modes 1, 2, 3).
15404-M | Proserv UK Ltd | 173.201, 173.302a, 173.304a, 173.301(f) | To modify the special permit by authorizing additional cylinder designs. (modes 1, 2, 3, 4).
21005-M | Federal Cartridge Company | 173.63(b) | To modify the special permit to increase the number of articles authorized to be packed per inner packaging to 20. (modes 1, 2, 3, 4, 5).
21023-M | Tire Seal, Inc | 173.304(d) | To modify the special permit to authorize a flammable gas. (modes 1, 2, 3, 4, 5).
21129-M | Northrop Grumman Systems Corp | 173.301, 173.302 | To modify the special permit with Part numbers which have been updated and the developmental changes associated with the tanks. (mode 1).
21191-M | Joyson Safety Systems Acquisition LLC | 172.203(a), 172.301(c), 173.166(e)(6) | To modify the special permit to include NHTSA Recall #24V-756, 20V-736, 21E-080, 21V-504, 21V-632, 24E-024 and 24V-198. (modes 1, 2, 3).
21318-M | Mercedes-Benz Ag | 173.185(b)(5) | To modify the special permit to authorize an additional battery and packaging types. (mode 4).
21677-M | Unipart North America Limited | 172.101(j) | To modify the special permit to authorize an additional lithium ion battery. (mode 4).

[FR Doc. 2025-00859 Filed 1-15-25; 8:45 am]

BILLING CODE P